NUCLEAR REGULATORY COMMISSION

[Docket No. 50-271; License No. DPR-28]

Entergy Nuclear Vermont Yankee, LLC and Entergy Nuclear Operations, Inc.; Notice of Issuance of Director's Decision Under 10 CFR 2.206

Notice is hereby given that the Director, Office of Nuclear Reactor Regulation, Nuclear Regulatory Commission (NRC or Commission) has issued a Director's Decision with regard to a petition dated July 29, 2004, filed by Mr. Paul Blanch and Mr. Arnold Gundersen, hereinafter referred to as the “Petitioners.” The petition was supplemented on December 8, 2004. The petition concerns the operation of the Vermont Yankee Nuclear Power Station (Vermont Yankee).

The petition requested that the NRC issue a Demand for Information requiring Entergy Nuclear Vermont Yankee, LLC, and Entergy Nuclear Operations, Inc. (Entergy or the licensee) to provide information that clearly and unambiguously describes how Vermont Yankee complies with the General Design Criteria (GDC) specified in Title 10 of the Code of Federal Regulations (10 CFR) Part 50 Appendix A, or the draft GDC published by the Atomic Energy Commission in 1967.

As the basis for their request, the Petitioners stated that this information is essential for two NRC regulatory activities at Vermont Yankee: (1) the NRC's review of Entergy's application for an extended power uprate (EPU), and (2) the NRC's engineering assessment. The Petitioners stated that until the design bases are clearly identified, any inspection or assessment is meaningless.

By teleconference on August 26, 2004, the Petitioners discussed the petition with the NRC's Petition Review Board. This teleconference gave the Petitioners and the licensee an opportunity to provide additional information and to clarify issues raised in the petition.

By letter dated May 13, 2005, the NRC staff requested Entergy provide information related to the petition. Entergy responded by letter dated June 14, 2005, and the information provided was considered by the staff in its evaluation of the petition.

The NRC staff sent a copy of the proposed Director's Decision to the Petitioners and to the licensee for comment by letters dated May 17, 2005. The staff did not receive any comments on the proposed Director's Decision.

The Director of the Office of Nuclear Reactor Regulation has determined that the request to issue a Demand for Information to the licensee is denied. The reasons for this decision are explained in the Director's Decision pursuant to 10 CFR 2.206 (DD-05-02), the complete text of which is available for inspection at the Commission's Public Document Room, located at One White Flint North, Public File Area O1 F21, 11555 Rockville Pike (first floor), Rockville, Maryland, or electronically from the Agencywide Documents Access and Management System (ADAMS) Public Electronic Reading Room on the NRC Web site at http://www.nrc.gov/reading-rm/adams.html.

The Director's Decision addresses several issues related to the Vermont Yankee design and licensing basis including: (1) Whether the licensee's designation of Appendix F of the Updated Final Safety Analysis Report (UFSAR) as “historical information” meets the intent of 10 CFR 50.71(e) regarding maintenance of design basis information, and (2) whether a compilation of Vermont Yankee's current design conformance to the draft GDCs is necessary for licensing reviews and inspections.

With respect to the first issue, the NRC staff concluded that the designation of UFSAR Appendix F as historical information is consistent with the applicable industry guidance, and would meet the intent of 10 CFR 50.71(e) regarding maintenance of design basis information, if the relevant information, consistent with the definition of “design bases” in 10 CFR 50.2, is contained in other portions of the UFSAR that are updated to reflect current plant design. Following the licensee's next update of the UFSAR to add the cross references discussed in Section II.A of the Director's Decision, the NRC staff will evaluate if any enforcement action is warranted.

With respect to the second issue, the NRC staff concluded that the NRC licensing review process provides reasonable assurance that the plant continues to meet the intent of the draft GDC and adequate protection of public health and safety is assured. The NRC also concluded that it did not need a compilation of the Vermont Yankee's current conformance to the draft GDC to review the application for an EPU or to conduct the Engineering Team Inspection (inspection was completed in September 2004).

A copy of the Director's Decision will be filed with the Secretary of the Commission for the Commission's review in accordance with 10 CFR 2.206 of the Commission's regulations. As provided for by this regulation, the Director's Decision will constitute the final action of the Commission 25 days after the date of the decision, unless the Commission, on its own motion, institutes a review of the director's decision in that time.

Dated at Rockville, Maryland, this 16th day of August 2005.
For the Nuclear Regulatory Commission.
R. William Borchardt,
Acting Director, Office of Nuclear Reactor Regulation.

[FR Doc. E5-4594 Filed 8-22-05; 8:45 am]

BILLING CODE 7590-01-P